DEPARTMENT OF COMMERCE

National Oceanic and Atmospheric Administration

[I.D. 070201B]

Endangered and Threatened Species; Take of Anadromous Fish

AGENCY: National Marine Fisheries Service (NMFS), National Oceanic and Atmospheric Administration (NOAA), Commerce.

ACTION: Notice of availability and request for comment.

SUMMARY: Notice is hereby given that the Washington Department of Fish and Wildlife (WDFW) has submitted a Fisheries Management and Evaluation Plan (FMEP) pursuant to the protective regulations promulgated for Snake River (SR) steelhead under the Endangered Species Act (ESA). The FMEP specifies the future management of inland recreational fisheries potentially affecting the SR steelhead in the State of Washington. This document serves to notify the public of the availability of the FMEP for review and comment before a final approval or disapproval is made by NMFS.

DATES: Written comments on the draft FMEP must be received at the appropriate address or fax number (see ADDRESSES) no later than 5 p.m. Pacific standard time on August 13, 2001.

ADDRESSES: Written comments and requests for copies of the draft FMEP should be addressed to Debbie Martin, Sustainable Fisheries Division, Hatchery and Inland Fisheries Branch, 10215 West Emerald Street, Suite 180, Boise, ID 83704 or faxed to 208/378-5699. The documents are also available on the Internet at http://www.nwr.noaa.gov/. Comments will not be accepted if submitted via e-mail or the Internet.

FOR FURTHER INFORMATION CONTACT: Debbie Martin, Boise, ID at phone number 208/321-2959 or e-mail: debbie.martin@noaa.gov.

SUPPLEMENTARY INFORMATION: This notice is relevant to the Snake River steelhead (Oncorhynchus mykiss) Evolutionarily Significant Unit (ESU).

Background

WDFW has submitted to NMFS an FMEP for inland recreational fisheries potentially affecting listed adults and juveniles of the SR steelhead ESU. These include all freshwater fisheries managed under the sole jurisdiction of the State of Washington occurring within the boundaries of the SR steelhead ESU including the anadromous portions of the Snake River mainstem and tributaries, from the mouth upstream to the Washington-Oregon border. The objective of the fisheries is to harvest known, hatchery-origin steelhead, hatchery spring and fall chinook and other fish species in a manner that does not jeopardize the survival and recovery of the listed SR ESU. All steelhead fisheries included in this FMEP will be managed such that only hatchery-produced adult steelhead that are adipose fin clipped may be retained. Impact levels to the listed SR steelhead ESU are specified in the FMEP. Population risk assessments in the FMEP indicate the extinction risk for the listed ESU under the proposed fishery impact levels to be low. A variety of monitoring and evaluation tasks are specified in the FMEP to assess the abundance of steelhead, determine fishery effort and catch of steelhead, and angler compliance. WDFW will annually conduct a wild population status and a review of the fisheries within the provisions of the FMEP. WDFW will conduct, at a minimum of every 5 years, a comprehensive review to evaluate the effectiveness of the FMEP.

As specified in the July 10, 2000, ESA 4 (d) rule for salmon and steelhead (65 FR 42422), NMFS may approve an FMEP if it meets criteria set forth in § 223.203 (b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4 (d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead 4 (d) rule.

Dated: July 6 , 2001.
Phil Willliams,
Acting Chief, Endangered Species Division, Office of Protected Resources, National Marine Fisheries Service.

[FR Doc. 01-17576 Filed 7-12-01; 8:45 am]

BILLING CODE 3510-22-S